DEPARTMENT OF TRANSPORTATION

Federal Aviation Administration

Commercial Space Transportation Advisory Committee—Reestablishment

AGENCY: Federal Aviation Administration (FAA), Department of Transportation (DOT).

ACTION: Announcement of reestablishment of the Commercial Space Transportation Advisory Committee (COMSTAC).

SUMMARY: FAA announces the reestablishment of the COMSTAC, a Federal Advisory Committee that provides information, advice, and recommendations to the Department of Transportation and the Administrator of the Federal Aviation Administration (FAA) on the critical matters facing the U.S. commercial space transportation industry. This reestablishment will take effect 15 days after the publication of this announcement, and will expire after 2 years.

FOR FURTHER INFORMATION CONTACT: Di Reimold, COMSTAC Designated Federal Officer/Executive Director, FAA, Commercial Space Transportation, 800 Independence Avenue SW., Rm. 331, Washington, DC 20591, telephone (202) 267-7635, Email dorothy.reimold@faa.gov.

SUPPLEMENTARY INFORMATION: Pursuant to Section 10(a)(2) of the Federal Advisory Committee Act (Pub. L. 92-463), FAA is giving notice of the reestablishment the COMSTAC. The primary goals of COMSTAC are to: Evaluate economic, technological, and institutional developments relating to the U.S. commercial space transportation industry; provide a forum for the discussion of problems involving the relationship between industry activities and government requirements; and make recommendations to the FAA Administrator on issues and approaches for Federal policies and programs regarding the industry. COMSTAC membership consists of senior executives from the commercial space transportation industry; representatives from the satellite industry, both manufacturers and users; state and local government officials; representatives from firms providing insurance, financial investment and legal services for commercial space activities; and representatives from academia, space advocacy organizations, and industry associations. Complete information regarding COMSTAC is available on the FAA Web site at: http://www.faa.gov/about/office_org/headquarters_offices/ast/advisory_committee/.

Issued in Washington, DC, June 6, 2017.
George C. Nield,
Associate Administrator for Commercial Space Transportation.

[FR Doc. 2017-12331 Filed 6-13-17; 8:45 am]

BILLING CODE 4910-13-P